NATIONAL FOUNDATION ON THE ARTS AND THE HUMANITIES

National Endowment for the Arts

Arts Advisory Panel Meetings

AGENCY: National Endowment for the Arts, National Foundation on the Arts and the Humanities.

ACTION: Notice of meetings.

SUMMARY: Pursuant to the Federal Advisory Committee Act, as amended, notice is hereby given that 21 meetings of the Arts Advisory Panel to the National Council on the Arts will be held by teleconference or videoconference.

DATES: See the SUPPLEMENTARY INFORMATION section for individual meeting times and dates. All meetings are Eastern time and ending times are approximate:

ADDRESSES: National Endowment for the Arts, Constitution Center, 400 7th St. SW, Washington, DC 20506.

FOR FURTHER INFORMATION CONTACT: Further information with reference to these meetings can be obtained from Lara Allee, Office of Guidelines & Panel Operations, National Endowment for the Arts, Washington, DC 20506; alleel@arts.gov, or call 202-682-5698.

SUPPLEMENTARY INFORMATION: The closed portions of meetings are for the purpose of Panel review, discussion, evaluation, and recommendations on financial assistance under the National Foundation on the Arts and the Humanities Act of 1965, as amended, including information given in confidence to the agency. In accordance with the determination of the Chair of March 11, 2022, these sessions will be closed to the public pursuant to 5 U.S.C. 10.

The upcoming meetings are:

Dance (review of applications): This meeting will be closed.

Date and time: August 1, 2025; 12:00 p.m. to 2:00 p.m.

Dance (review of applications): This meeting will be closed.

Date and time: August 1, 2025; 3:00 p.m. to 5:00 p.m.

Presenting & Multidisciplinary Works (review of applications): This meeting will be closed.

Date and time: August 4, 2025; 12:00 p.m. to 2:00 p.m.

Literary Arts (review of applications): This meeting will be closed.

Date and time: August 4, 2025; 1:00 p.m. to 3:00 p.m.

Presenting & Multidisciplinary Works (review of applications): This meeting will be closed.

Date and time: August 4, 2025; 3:00 p.m. to 5:00 p.m.

Literary Arts (review of applications): This meeting will be closed.

Date and time: August 5, 2025; 12:00 p.m. to 2:00 p.m.

Presenting & Multidisciplinary Works (review of applications): This meeting will be closed.

Date and time: August 5, 2025; 12:00 p.m. to 2:00 p.m.

Arts Education (review of applications): This meeting will be closed.

Date and time: August 5, 2025; 1:30 p.m. to 3:30 p.m.

Presenting & Multidisciplinary Works (review of applications): This meeting will be closed.

Date and time: August 5, 2025; 3:00 p.m. to 5:00 p.m.

Arts Education (review of applications): This meeting will be closed.

Date and time: August 6, 2025; 1:30 p.m. to 3:30 p.m.

Presenting & Multidisciplinary Works (review of applications): This meeting will be closed.

Date and time: August 7, 2025; 12:00 p.m. to 2:00 p.m.

Arts Education (review of applications): This meeting will be closed.

Date and time: August 7, 2025; 1:30 p.m. to 3:30 p.m.

Presenting & Multidisciplinary Works (review of applications): This meeting will be closed.

Date and time: August 7, 2025; 3:00 p.m. to 5:00 p.m.

Arts Education (review of applications): This meeting will be closed.

Date and time: August 8; 11:30 a.m. to 1:30 p.m.

Arts Education (review of applications): This meeting will be closed.

Date and time: August 8, 2025; 2:30 p.m. to 4:30 p.m.

Folk & Traditional Arts (review of applications): This meeting will be closed.

Date and time: August 11, 2025; 1:00 p.m. to 3:00 p.m.

Arts Education (review of applications): This meeting will be closed.

Date and time: August 12, 2025; 2:30 p.m. to 4:30 p.m.

Folk & Traditional Arts (review of applications): This meeting will be closed.

Date and time: August 13, 2025; 1:00 p.m. to 3:00 p.m.

Folk & Traditional Arts (review of applications): This meeting will be closed.

Date and time: August 15, 2025; 1:00 p.m. to 3:00 p.m.

Literature Fellowships: Translation (review of applications): This meeting will be closed.

Date and time: August 20, 2025; 1:00 p.m. to 3:00 p.m.

Literature Fellowships: Translation (review of applications): This meeting will be closed.

Date and time: August 21, 2025; 1:00 p.m. to 3:00 p.m.

Dated: June 27, 2025.
Lara Allee,
Program Analyst, National Endowment for the Arts.

[FR Doc. 2025-12250 Filed 6-30-25; 8:45 am]

BILLING CODE 7537-01-P